DEPARTMENT OF EDUCATION

National Board of the Fund for the Improvement of Postsecondary Education, Department of Education; Meeting

ACTION: Notice of meeting.

SUMMARY: This notice provides the proposed agenda of a forthcoming meeting of the National Board of the Fund for the Improvement of Postsecondary Education. This notice also describes the functions of the Board. Notice of this meeting is required under section 10(a)(2) of the Federal Advisory Committee Act.

Dates and Time: November 19, 2000, 12 p.m. to 4:30 p.m.

ADDRESSES: Sheraton San Diego Hotel & Marina, 1380 Harbor Island Drive, San Diego, CA. Telephone: (619) 692-2200.

FOR FURTHER INFORMATION CONTACT: Don Fischer, U.S. Department of Education, 1990 K Street NW., Washington, DC 20006-8544. Telephone: (202) 502-7500 or by e-mail: donald_fischer@ed.gov Individuals who use a telecommunication device for the deaf (TDD) may call the Federal Information Relay Service (FIRS) at 1-800-877-8339 between 8 a.m. and 8 p.m., Eastern time, Monday through Friday.

Individuals with disabilities may obtain this document in an alternate format (e.g., Braille, large print, audiotape, or computer diskette) on request to the contact person listed in the preceding paragraph.

SUPPLEMENTARY INFORMATION: The National Board of the Fund for the Improvement of Postsecondary Education is established under Title VII, Part B, section 742 of the Higher Education Amendments of 1998 (20 U.S.C. 1138a). The National Board of the Fund is authorized to recommend to the Director of the Fund and the Assistant Secretary for Postsecondary Education priorities for funding and procedures for grant awards.

On Sunday, November 19, 2000, from 1 p.m. to 4:30 p.m. the Board will meet in open session. The proposed agenda for the open portion of the meeting will include an overview of the Fund's program status and special initiatives.

On Sunday, November 19, 2000, from 12 p.m. to 1 p.m. the meeting will be closed to the public for the purpose of discussing Comprehensive Program grant applications, including both funded and unfunded applications. This portion of the meeting will be closed under the authority of section 10(d) of the Federal Advisory Act (Pub. L. 92-463; 5 U.S.C.A. Appendix 2). Because the review and discussion of applications and the qualifications of proposed staff to work on these grants are likely to disclose trade secrets and commercial or financial information obtained from a person and privileged or confidential, and to disclose information of a personal nature where disclosure would constitute a clearly unwarranted invasion of personal privacy if conducted in open session, this portion of the meeting should be closed to the public as provided for by exemptions 4 and 6 of 5 U.S.C. 552 (b)(c).

The meeting site is accessible to individuals with disabilities. An individual with a disability who will need an auxiliary aid or service to participate in the meeting (e.g., interpreting service, assistive listening device or materials in an alternate format) should notify the contact person listed in this notice at least two weeks before the scheduled meeting date. Although the Department will attempt to meet a request received after that date, the requested auxiliary aid or service may not be available because of insufficient time to arrange it.

Records are kept of all Board proceedings, and are available for public inspection at the office of the Fund for the Improvement of Postsecondary Education, 8th Floor, 1990 K Street NW., Washington, DC 20006-8544 from the hours of 8 a.m. to 4:30 p.m.

Claudio R. Prieto,
Acting Assistant Secretary, Office of Postsecondary Education.

[FR Doc. 00-28423 Filed 11-3-00; 8:45 am]

BILLING CODE 4000-01-M